OFFICE OF PERSONNEL MANAGEMENT

5 CFR Part 532

[Docket ID: OPM-2023-0017]

RIN 3206-AO60

Prevailing Rate Systems; Abolishment of Allegheny, Pennsylvania, as a Nonappropriated Fund Federal Wage System Wage Area

AGENCY: Office of Personnel Management.

ACTION: Proposed rule.

SUMMARY: The Office of Personnel Management (OPM) is proposing a rule to abolish the Allegheny, Pennsylvania, nonappropriated fund (NAF) Federal Wage System (FWS) wage area and redefine Cuyahoga County, Ohio, to the Macomb, Michigan, NAF wage area; Trumbull County, OH, to the Niagara, New York, NAF wage area; Allegheny and Butler Counties, PA, to the Cumberland, PA, NAF wage area; Harrison County, West Virginia, to the Prince William, Virginia, NAF wage area; and Westmoreland County, PA, will no longer be defined. These changes are necessary because NAF FWS employment in the survey area is now below the minimum criterion of 26 wage employees to maintain a wage area, and the local activities no longer have the capability to conduct local wage surveys.

DATES: Send comments on or before September 14, 2023.

ADDRESSES: You may submit comments, identified by docket number and/or Regulatory Information Number (RIN) and title, by the following method:

• Federal Rulemaking Portal: https://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: Ana Paunoiu, by telephone at (202) 606-2858 or by email at pay-leave-policy@opm.gov.

SUPPLEMENTARY INFORMATION: The Allegheny, Pennsylvania, NAF FWS wage area is presently composed of one survey county, Allegheny County, PA, and five area of application counties: Cuyahoga and Trumbull Counties, OH; Butler and Westmoreland Counties, PA; and Harrison County, WV. Under section 532.219 of title 5, Code of Federal Regulations, the OPM may establish a NAF wage area when there are a minimum of 26 NAF wage employees in the survey area, a local activity has the capability to host annual local wage surveys, and the survey area has at least 1,800 private enterprise employees in establishments within survey specifications. The Department of Defense (DOD) notified OPM that there has been a continuing decline of NAF FWS employment in the survey area and the local activities no longer have the capability to conduct local wage surveys. Currently, 11 DOD NAF FWS employees and 13 Department of Veterans Affairs NAF FWS employees work in Allegheny County.

Since Cuyahoga and Trumbull Counites, OH; Allegheny and Butler Counties, PA; and Harrison County, WV, will have continuing NAF employment and do not meet the regulatory criteria under 5 CFR 532.219 to be separate survey areas, they must be defined as areas of application to other wage areas. Section 532.219 lists the regulatory criteria OPM considers when defining FWS wage area boundaries. This regulation allows consideration of the following criteria: proximity of largest activity in each county, transportation facilities and commuting patterns, and similarities of the counties in overall population, private employment in major industry categories, and kinds and sizes of private industrial establishments.

In selecting a wage area to which Cuyahoga County, OH, should be redefined, proximity favors the Macomb, MI, NAF wage area. All other criteria are inconclusive. Based on these findings, OPM is defining Cuyahoga County as an area of application to the Macomb NAF wage area.

In selecting a wage area to which Trumbull County, OH, should be redefined, proximity favors the Niagara, NY, NAF wage area. All other criteria are inconclusive. Based on these findings, OPM is defining Trumbull County as an area of application to the Niagara NAF wage area.

In selecting a wage area to which Alleghany County, PA, should be redefined, proximity favors the Cumberland, PA, NAF wage area. All other criteria are inconclusive. Based on these findings, OPM is defining Alleghany County as an area of application to the Cumberland NAF wage area.

In selecting a wage area to which Butler County, PA, should be redefined, proximity favors the Cumberland, PA, NAF wage area. All other criteria are inconclusive. Based on these findings, OPM is defining Butler County as an area of application to the Cumberland NAF wage area.

In selecting a wage area to which Harrison County, WV, should be redefined, proximity favors the Prince William, VA, NAF wage area. All other criteria are inconclusive. Based on these findings, OPM is defining Harrison County as an area of application to the Prince William NAF wage area.

OPM is removing Westmoreland County from the wage area definition. There are no longer NAF FWS employees working in Westmoreland County. Under 5 U.S.C. 5343(a)(1)(B)(i), NAF wage areas “shall not extend beyond the immediate locality in which the particular prevailing rate employees are employed.” Therefore, Westmoreland County should not be defined as part of a NAF wage area.

The Macomb wage area would consist of one survey county (Macomb County, MI) and 15 area of application counties (Alpena, Calhoun, Crawford, Grand Traverse, Huron, Iosco, Kent, Leelanau, Ottawa, Saginaw, Washtenaw, and Wayne Counties, MI; and Cuyahoga, Lucas, and Ottawa Counties, OH).

The Niagara wage area would consist of one survey county (Niagara County, NY) and four area of application counties (Trumbull County, OH; Erie and Genesee Counties, NY, and Erie County, PA).

The Cumberland wage area would consist of one survey county (Cumberland County, PA) and four area of application counties (Allegheny, Blair, Butler, and Franklin Counties, PA).

The Prince William wage area would consist of one survey county (Prince William County, VA) and two area of application counties (Fauquier County, VA, and Harrison County, WV).

The Federal Prevailing Rate Advisory Committee, the national labor-management committee responsible for advising OPM on matters concerning the pay of FWS employees, recommended these changes by consensus. These changes would be effective on the first day of the first applicable pay period beginning on or after 30 days following publication of the final regulations.

Expected Impact of This Rule

Section 5343 of title 5, U.S. Code, provides OPM with the authority and responsibility to define the boundaries of NAF FWS wage areas. Any changes in wage area definitions can have the long-term effect of increasing pay for Federal employees in affected locations. OPM expects this final rule to impact approximately 26 NAF FWS employees. Considering the small number of employees affected, OPM does not anticipate this rulemaking will substantially impact local economies or have a large impact in local labor markets. However, OPM is requesting comment in this rulemaking regarding the impact. As this and future wage area changes may impact higher volumes of employees in geographical areas and could rise to the level of impacting local labor markets, OPM will continue to study the implications of such impacts in this or future rules as needed.

Regulatory Review

This action is not a “significant regulatory action” under the terms of Executive Order (E.O.) 12866 (58 FR 51735, October 4, 1993) and is therefore not subject to review under E.O. 12866 and 13563 (76 FR 3821, January 21, 2011).

Regulatory Flexibility Act

OPM certifies that this proposed rule will not have a significant economic impact on a substantial number of small entities.

Federalism

OPM has examined this proposed rule in accordance with Executive Order 13132, Federalism, and have determined that this proposed rule will not have any negative impact on the rights, roles and responsibilities of State, local, or tribal governments.

Civil Justice Reform

This regulation meets the applicable standard set forth in Executive Order 12988.

Unfunded Mandates Act of 1995

This proposed rule will not result in the expenditure by State, local, and tribal governments, in the aggregate, or by the private sector, of $100 million or more in any year and it will not significantly or uniquely affect small governments. Therefore, no actions were deemed necessary under the provisions of the Unfunded Mandates Reform Act of 1995.

Paperwork Reduction Act

This proposed rule does not impose any reporting or record-keeping requirements subject to the Paperwork Reduction Act.

List of Subjects in 5 CFR Part 532

Administrative practice and procedure, Freedom of information, Government employees, Reporting and recordkeeping requirements, Wages.

Office of Personnel Management.
Kayyonne Marston,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In appendix D to subpart B, amend the table by revising the wage area listing for the States of Michigan, New York, Pennsylvania, and Virginia to read as follows:

Appendix D to Subpart B of Part 532—Nonappropriated Fund Wage and Survey Areas

Definitions of Wage Areas and Wage Area Survey Areas

* * * * *

Michigan

Macomb

Survey Area

Michigan:

Macomb

Area of Application. Survey area plus:

Michigan:

Alpena

Calhoun

Crawford

Grand Traverse

Huron

Iosco

Kent

Leelanau

Ottawa

Saginaw

Washtenaw

Wayne

Ohio:

Cuyahoga

Lucas

Ottawa

* * * * *

NEW YORK

Jefferson

Survey Area

New York:

Jefferson

Area of Application. Survey area plus:

New York:

Albany

Oneida

Onondaga

Ontario

Schenectady

Steuben

Kings-Queens

Survey Area

New York:

Kings

Queens

Area of Application. Survey area plus:

New Jersey:

Essex

Hudson

New York:

Bronx

Nassau

New York

Richmond

Suffolk

Niagara

Survey Area

New York:

Niagara

Area of Application. Survey area plus:

New York:

Erie

Genesee

Ohio:

Trumbull

Pennsylvania:

Erie

Orange

Survey Area

New York:

Orange

Area of Application. Survey area plus:

New York:

Dutchess

Westchester

* * * * *

PENNSYLVANIA

Cumberland

Survey Area

Pennsylvania:

Cumberland

Area of Application. Survey area plus:

Pennsylvania:

Alleghany

Blair

Butler

Franklin

York

Survey Area

Pennsylvania:

York

Area of Application. Survey area plus:

Pennsylvania:

Lebanon

* * * * *

VIRGINIA

Alexandria-Arlington-Fairfax

Survey Area

Virginia (city):

Alexandria

Virginia (counties):

Arlington

Fairfax

Area of Application. Survey area.

Chesterfield-Richmond

Survey Area

Virginia (city):

Richmond

Virginia (county):

Chesterfield

Area of Application. Survey area plus:

Virginia (cities):

Bedford

Charlottesville

Salem

Virginia (counties):

Caroline

Nottoway

Prince George

West Virginia:

Pendleton

Hampton-Newport News

Survey Area

Virginia (cities):

Hampton

Newport News

Area of Application. Survey area plus:

Virginia (city):

Williamsburg

Virginia (county):

York

Norfolk-Portsmouth-Virginia Beach

Survey Area

Virginia (cities):

Norfolk

Portsmouth

Virginia Beach

Area of Application. Survey area plus:

North Carolina:

Pasquotank

Virginia (cities):

Chesapeake

Suffolk

Virginia (counties):

Accomack

Northampton

Prince William

Survey Area

Virginia:

Prince William

Area of Application. Survey area plus:

Virginia:

Fauquier

West Virginia:

Harrison

* * * * *

[FR Doc. 2023-17373 Filed 8-14-23; 8:45 am]

BILLING CODE 6325-39-P